DEPARTMENT OF HOMELAND SECURITY

Coast Guard

[USCG-2004-19977]

Inspection of Towing Vessels

AGENCY: Coast Guard, DHS.

ACTION: Notice; request for comments, and notice of public meeting; change of location.

SUMMARY: The location of the upcoming public meeting being held in New Orleans, Louisiana, is changed. Instead of the Hale Boggs Federal Building, as previously announced in the Federal Register, the meeting will take place at the Hyatt Regency New Orleans. The date of the meeting, February 10, and the hours, from 9 a.m. to 12 p.m. remain the same. In the recently enacted Coast Guard and Maritime Transportation Act of 2004, the Congress directed the Coast Guard to add towing vessels to the list of vessels subject to inspections, and to consider the establishment of a safety management system appropriate for towing vessels. Through public meetings, we are seeking public and industry involvement as we consider how to proceed.

DATES: Comments and related material must reach the Docket Management Facility on or before March 23, 2005. A public meeting will be held on February 10, 2005, in New Orleans, LA. Meetings in Oakland, CA, and St. Louis, MO, remain unchanged as previously announced in the Federal Register [69 FR 78471].

ADDRESSES: Comments. You may submit comments identified by Coast Guard docket number USCG-2004-19977 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

Meeting. The meeting in New Orleans will be held at the following location: Hyatt Regency New Orleans, Cabildo Room, Poydras at Loyola Avenue, New Orleans, LA 70113.

FOR FURTHER INFORMATION CONTACT: If you have questions on this notice, contact Thomas Scott Kuhaneck, Domestic Vessel Compliance Division (G-MOC-1), U.S. Coast Guard, telephone 202-267-0240, or e-mail: TKuhaneck@comdt.uscg.mil. If you have questions on viewing or submitting material to the docket, call Andrea M. Jenkins, Program Manager, Docket Operations, telephone 202-366-0271.

SUPPLEMENTARY INFORMATION:

Public Participation and Request for Comments

We encourage you to respond to our request for comments, by submitting comments and related materials. All comments received will be posted, without change, to http://dms.dot.gov and will include any personal information you have provided. We have an agreement with the Department of Transportation (DOT) to use the Docket Management Facility. Please see DOT's “Privacy Act” three paragraphs below.

Submitting comments: If you submit a comment, please include your name and address, identify docket number (USCG-2004-19977), indicate the specific question, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays. Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meeting

The meeting will be held—

• February 10, 2005, 9 a.m. to 12 p.m., at Hyatt Regency New Orleans, Cabildo Room, Poydras at Loyola Avenue, New Orleans, LA 70113.

Questions

We need the public's assistance in answering the following questions, and any additional information provided on this topic is welcome.

In responding to each question, please explain your reasons for each answer as specifically as possible so that we can carefully weigh the consequences and impacts of any future actions we may take.

(1) Towing vessels of a certain size (300 or more gross register tons) are already inspected vessels and are subject to a variety of existing requirements. Should the Coast Guard use any of these existing standards (or standards for other types of inspected vessels) for incorporation into the new regulations regarding the inspection of towing vessels? If so, which regulations or standards should be incorporated into these new regulations?

(2) Title 46, United States Code, specifies the items covered with regard to inspected vessels including lifesaving, firefighting, hull, propulsion equipment, machinery and vessel equipment. However, the legislation that added towing vessels to the list of inspected vessels, authorized that the Coast Guard may prescribe different standards for towing vessels than for other types of inspected vessels. What, if any, different standards should be considered with regard to inspected towing vessel requirements from other inspected vessels?

(3) Towing vessels vary widely in terms of size, horsepower, areas of operation, and type of operation. Under what circumstances, if any, should a towing vessel be exempt from the requirements as an inspected vessel?

(4) Should existing towing vessels be given time to implement requirements, be “grandfathered” altogether from them, or should this practice vary from requirement to requirement?

(5) Should existing towing vessels be treated differently from towing vessels yet to be built?

(6) The same act that requires inspection of towing vessels authorizes the Coast Guard to develop a safety management system appropriate for the towing vessels. If such a system is developed, should its use be required for all inspected towing vessels?

(7) Examples of existing safety management systems include the international safety management (ISM) code and the American Waterways Operators Responsible Carrier Program. If a safety management system is used, what elements should be included in such a system?

Procedural

The meeting is open to the public. Attendees may make oral presentations during the meeting. Please note that the meeting may close early if all business is finished.

Information on Services for Individuals With Disabilities

For information on facilities or services for individuals with disabilities or to request special assistance at the meeting, contact Thomas Scott Kuhaneck at the address under FOR FURTHER INFORMATION CONTACT as soon as possible.

Dated: January 31, 2005.
Howard L. Hime,
Acting Director of Standards, Marine Safety, Security, and Environmental Protection, U.S. Coast Guard.

[FR Doc. 05-2095 Filed 1-31-05; 3:37 pm]

BILLING CODE 4910-15-P